FEDERAL ELECTION COMMISSION

Sunshine Act Notices

AGENCY: Federal Election Commission.

Date & Time: Thursday, March 22, 2007, at 10 a.m.

Place: 999 E Street, NW., Washington, DC (ninth floor).

Status: This meeting will be open to the public.

Items to be discussed:

Correction and Approval of Minutes.

Advisory Opinion 2007-01: Senator Claire McCaskill and McCaskill for Auditor by counsel, Marc E. Elias and Caroline P. Goodson.

Draft Notice of Proposed Rulemaking on Standards of Conduct.

Draft Final Rules on Best Efforts in Administrative Fines Challenges.

Policy Regarding Self-Reporting of Campaign Finance Violations (Sua Sponte Submissions).

Bush/Cheney '04 Audit.

Clark for President, Inc.

Policy Statement Regarding Internal Controls.

Management and Administrative Matters.

FOR FURTHER INFORMATION CONTACT: Mr. Robert Biersack, Press Officer, Telephone: (202) 694-1220.

Mary W. Dove,
Secretary of the Commission.

[FR Doc. 07-1324 Filed 3-14-07; 2:42 pm]

BILLING CODE 6715-01-M